INTERNATIONAL TRADE COMMISSION

[Investigation Nos. 701-TA-589 and 731-TA-1394-1395 (Final)]

Forged Steel Fittings From China and Italy; Scheduling of the Final Phase of Antidumping and Countervailing Duty Investigations

AGENCY: United States International Trade Commission.

ACTION: Notice.

DATES: October 17, 2018

FOR FURTHER INFORMATION CONTACT: Celia Feldpausch (202-205-2387), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective May 17, 2018, the Commission established a general schedule for the conduct of the final phase of its investigations on forged steel fittings from China, Italy, and Taiwan,¹ following preliminary determinations by the U.S. Department of Commerce (“Commerce”) that imports of subject forged steel fittings from China, Italy, and Taiwan were being sold at less than fair value (LTFV) in the United States.² Notice of the scheduling of the final phase of the Commission's investigations and of a public hearing to be held in connection therewith was given by posting copies of the notice in the Office of the Secretary, U.S. International Trade Commission, Washington, DC, and by publishing the notice in the Federal Register of June 4, 2018 (83 FR 25715). The hearing was held in Washington, DC, on August 2, 2018, and all persons who requested the opportunity were permitted to appear in person or by counsel. The Commission subsequently issued its final affirmative determination regarding LTFV imports from Taiwan on September 14, 2018 (83 FR 47640, September 20, 2018). Commerce has issued final affirmative determinations with respect to the subject forged steel fittings from China ³ and Italy.⁴ Accordingly, the Commission currently is issuing a supplemental schedule for its antidumping and countervailing duty investigations on imports of forged steel fittings from China and Italy.

¹ Forged Steel Fittings From China, Italy, and Taiwan; Scheduling of the Final Phase of Countervailing Duty and Anti-Dumping Duty Investigations, 83 FR 25715, June 4, 2018.

² Forged Steel Fittings From the People's Republic of China: Affirmative Preliminary Determination of Sales at Less Than Fair Value, Postponement of Final Determination and Extension of Provisional Measures, 83 FR 22948, May 17, 2018; Forged Steel Fittings From Italy: Preliminary Affirmative Determination of Sales at Less Than Fair Value, Postponement of Final Determination and Extension of Provisional Measures, 83 FR 22954, May 17, 2018; and Forged Steel Fittings from Taiwan: Affirmative Preliminary Determination of Sales at Less Than Fair Value, 83 FR 22957, May 17, 2018; see also Forged Steel Fittings From the People's Republic of China: Preliminary Affirmative Countervailing Duty Determination and Alignment of Final Determination With Final Antidumping Duty Determination, 83 FR 11170, March 14, 2018.

³ Forged Steel Fittings From the People's Republic of China: Final Determination of Sales at Less Than Fair Value, 83 FR 50339, October 5, 2018; Forged Steel Fittings From the People's Republic of China: Final Affirmative Countervailing Duty Determination, 83 FR 50342, October 5, 2018.

⁴ Forged Steel Fittings From Italy: Final Determination of Sales at Less Than Fair Value, 83 FR 50345, October 5, 2018.

This supplemental schedule is as follows: The deadline for filing supplemental party comments on Commerce's final antidumping and countervailing duty determinations is October 19, 2018. Supplemental party comments may address only Commerce's final antidumping and countervailing duty determinations regarding imports of forged steel fittings from China and Italy. These supplemental final comments may not contain new factual information and may not exceed five (5) pages in length. The supplemental staff report in the final phase of these investigations regarding subject imports from China and Italy will be placed in the nonpublic record on October 30, 2018; and a public version will be issued thereafter.

For further information concerning these investigations see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: These investigations are being conducted under authority of title VII of the Tariff Act of 1930; this notice is published pursuant to section 207.21 of the Commission's rules.

By order of the Commission.
Issued: October 17, 2018.
Lisa Barton,
Secretary to the Commission.

[FR Doc. 2018-22961 Filed 10-19-18; 8:45 am]

BILLING CODE 7020-02-P